DEPARTMENT OF THE INTERIOR

Bureau of Land Management

[NV-030-1610-DO]

Notice of Intent To Prepare a Combined Amendment to the Carson City Field Office Consolidated Resource Management Plan and a Revision to the Naval Air Station Fallon Integrated Natural Resources Management Plan, Known as the Churchill County Plan, and Associated Environmental Impact Statement

AGENCY: Department of the Interior, Bureau of Land Management, Carson City Field Office in partnership with the Department of Defense, U.S. Naval Air Station Fallon, Nevada.

ACTION: Notice of intent to prepare a combined amendment to the Bureau of Land Management (BLM) Carson City Field Office (CCFO) Consolidated Resource Management Plan (CRMP) and a revision to the Naval Air Station Fallon (Navy) Integrated Natural Resources Management Plan (INRMP) and associated Environmental Impact Statement (EIS).

SUMMARY: This document provides notice that the BLM intends to prepare an amendment to the CRMP with an associated EIS for the Carson City Field Office to address energy resources, fire management, off-highway vehicle (OHV) use and designations, and Churchill County open space needs. The Navy intends to revise their INRMP in this plan to address the same issues stated for the BLM and new issues at the Fallon Naval Air Station related to National Security. The planning area is primarily limited to Churchill County, Nevada for all issues with the exception of energy resources, which will be addressed for all lands managed by the CCFO. The BLM and Navy will work collaboratively and cooperatively with interested parties to identify management decisions that are best suited to local, regional, and national needs and concerns.

DATES: This notice initiates the public scoping process. Comments can be submitted in writing to the address listed below and will be accepted throughout the preparation of the Draft CRMP/Draft EIS. All public meetings will be announced through the local news media, newsletters, scoping documents, and the BLM Web site at http://www.nv.blm.gov/carson at least 15 days prior to the event. Public meetings will be held throughout the plan scoping and preparation period. In order to ensure the widest range of public participation and input, public open house meetings will be held, at a minimum, in Fallon and Reno, Nevada. Early participation is encouraged and will assist in determining future management of public and Navy lands. In addition to the ongoing public participation process, formal opportunities for public participation will be provided through comment on the draft and final documents.

ADDRESSES: Written comments should be sent to BLM Carson City Field Office, 5665 Morgan Mill Road, Carson City, NV 89701; Fax (775) 885-6147; email address tknutson@nv.blm.gov. Comments, including names and addresses of respondents, will be available for public review at the above address during regular business hours (7:30 a.m.-5 p.m.), Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

FOR FURTHER INFORMATION CONTACT: For additional information, write to the above address or call Gary Ryan (BLM/Navy Liaison, Project Manager) at (775) 426-4011; Terri Knutson (BLM Environmental Planner) at (775) 885-6156; or Chip Kramer (Navy Environmental Coordinator) at (775) 426-3186.

SUPPLEMENTARY INFORMATION: The BLM Carson City Field Office CRMP is a compilation of all Resource Management Plans and Amendments that have been completed for lands managed by the CCFO. Although energy resources are marginally addressed in the CRMP, site-specific suitability or non-suitability analysis is lacking and energy resources other than geothermal and oil and gas are not referenced or analyzed. The Fallon Paiute-Shoshone Tribe has expressed to BLM their concern regarding sacred or religious sites and has requested participation in any land use planning for the area. The Navy has indicated a need to revise their INRMP to address new issues relevant to the base and other Navy-controlled lands. Churchill County is updating their Master Plan to include open space designations and resource preservation. In addition to the BLM lands, Churchill County contains lands managed by the Navy, the Bureau of Reclamation (BOR), the U.S. Fish and Wildlife Service (USFWS), and the Fallon Paiute-Shoshone and Walker River Paiute Tribes. To best serve the needs of all, it was agreed that a joint planning effort addressing overall public needs would be pursued. By combining these efforts several issues such as CCFO and countywide energy development; potential Naval Air Station Fallon expansion; open space preservation; urban interface and fire management; recreational opportunities and impacts; threatened, endangered, and sensitive species protection; and the protection of lands sensitive to the Tribes will be assessed in a coordinated and comprehensive manner. It is expected that this amendment to the BLM Carson City CRMP will also serve as a revision of the Navy INRMP. An EIS will be prepared jointly and a record of decision (ROD) will be signed by both parties. Churchill County and the Fallon Paiute-Shoshone Tribe will be planning partners and formal cooperating agencies for the EIS. Federal, state, and local agencies, Tribal entities, and other individuals or organizations who may be interested in or affected by the decisions to be made in this plan amendment are invited to participate in the scoping process and, if eligible, may request, or be requested by the BLM and Navy, to participate as a cooperating agency.

Dated: June 18, 2003.
John O. Singlaub,
Manager, Carson City Field Office.

[FR Doc. 03-18560 Filed 7-21-03; 8:45 am]

BILLING CODE 4310-HC-P